FEDERAL COMMUNICATIONS COMMISSION

47 CFR Part 64

[CG Docket Nos. 02-278, 21-402, 17-59, FCC 23-107, FR ID 254728]

Rules and Regulations Implementing the Telephone Consumer Protection Act of 1991

AGENCY: Federal Communications Commission.

ACTION: Final rule; announcement of compliance date.

SUMMARY: In this document, the Federal Communications Commission (Commission) announces that the Office of Management and Budget (OMB) has approved the information collection associated with the rule adopted in the Second Text Blocking Report and Order requiring that texters and callers obtain a consumer's prior express written consent to robocall or robotext the consumer soliciting their business. The Commission requires that such consent apply to a single seller at a time. The Commission also requires that the consent must be in response to a clear and conspicuous disclosure to the consumer and that the content of the robotexts and robocalls be logically and topically associated with the website where the consumer gave consent. Compliance with the rule section, is required 12 months after publication in the Federal Register or 30 days after notice that the Office of Management and Budget has completed review of any information collection requirements that the Consumer and Governmental Affairs Bureau determines is required un the Paperwork Reduction Act, whichever is later. This document is consistent with the Second Text Blocking Report and Order, which states the Commission will publish a document in the Federal Register announcing a compliance date for the rule section.

DATES:

Effective date: November 6, 2024

Compliance date: Compliance with 47 CFR 64.1200(f)(9) is required as of January 27, 2025.

FOR FURTHER INFORMATION CONTACT: Mika Savir, Attorney Advisor, Consumer Policy Division, Consumer and Governmental Affairs Bureau, at (202) 418-0384 or mika.savir@fcc.gov.

SUPPLEMENTARY INFORMATION: This document announces that OMB approved the information collection requirement in 47 CFR 64.1200(f)(9) on September 26, 2024. The rule was adopted in the Second Text Blocking Report and Order, FCC 23-107, 89 FR 5098, January 26, 2024. The rule's effective date, accordingly, is January 27, 2025, which is 12 months after the rule was published in the Federal Register. The Commission publishes this document in the Federal Register as an announcement of the compliance date of the rule. If you have any comments on the burden estimates listed below, or how the Commission can improve the collections and reduce any burdens caused thereby, please contact Cathy Williams, Federal Communications Commission, Room 3-317, 45 L Street NE, Washington, DC 20554, regarding OMB Control Number 3060-0519. Please include the applicable OMB Control Number in your correspondence. The Commission will also accept your comments via email at PRA@fcc.gov. To request materials in accessible formats for people with disabilities (Braille, large print, electronic files, audio format), send an email to fcc504@fcc.gov or call the Consumer and Governmental Affairs Bureau at (202) 418-0530.

Synopsis

As required by the Paperwork Reduction Act of 1995 (44 U.S.C. 3507), the FCC is notifying the public that it received final OMB approval on September 26, 2024, for the information collection requirement contained in 47 CFR 64.1200(f)(9). Under 5 CFR part 1320, an agency may not conduct or sponsor a collection of information unless it displays a current, valid OMB Control Number. No person shall be subject to any penalty for failing to comply with a collection of information subject to the Paperwork Reduction Act that does not display a current, valid OMB Control Number. The OMB Control Number for the information collection requirement in 47 CFR 64.1200(f)(9) is 3060-0519. The foregoing notice is required by the Paperwork Reduction Act of 1995, Public Law 104-13, October 1, 1995, and 44 U.S.C. 3507.

The total annual reporting burdens and costs for the respondents are as follows:

OMB Control Number: 3060-0519.

OMB Approval Date: September 26, 2024.

OMB Expiration Date: September 30, 2027.

Title: Targeting and Eliminating Unlawful Text Messages, Implementation of the Telephone Consumer Protection Act of 1991, Advanced Methods to Target and Eliminate Unlawful Robocalls.

Form Number: N/A.

Respondents: 6,000.

Number of Respondents and Responses: 6,000 respondents × 1 response = 6,000 responses.

Estimated Time per Response: 8 hours per response.

Frequency of Response: Annual.

Obligation to Respond: Sellers who are required to comply with the prior express written consent requirements of the TCPA, and who are not currently obtaining one-to-one consent for telemarketing robocalls/robotexts will need to comply with the revised rule. Sellers who are already obtaining one-to-one consent for such calls/texts or who are not required to comply with TCPA prior express written consent requirements will not have to make any changes to comply with the new rule.

Total Annual Burden: 6,000 respondents × 1 response × 8 hours/response = 48,000 hours.

Total Annual Cost: 6,000 responses × 8 hours/response × $89.04 per hour = $4,273,920.

Annual “In-House” Cost: The Commission assumes that respondents use “in-house” personnel to update websites to ensure compliance. The national average wage for a web and digital interface designer, including benefits, is comparable to a federal employee GS-15/5. Thus, the Commission estimates respondents cost to be about $89.04 per hour to comply with the requirement.

Privacy Act Impact Assessment: No impact(s).

Nature and Extent of Confidentiality: There is no need for confidentiality with this collection of information.

Needs and Uses: To better protect consumers from unwanted and illegal calls and texts, the Commission adopted a rule to make it unequivocally clear that texters and callers must obtain a consumer's prior express written consent to robocall or robotext the consumer soliciting their business, from one seller at a time. This new rule prohibits abuse of consumer consent by comparison shopping and other websites. In addition to the one-to-one consent requirement, the Commission also requires that the consent must be in response to a clear and conspicuous disclosure to the consumer and that the content of the robotexts and robocalls must be logically and topically associated with the website where the consumer gave consent. The TCPA and the Commission's existing rules already place the burden of proof on the texter or caller to prove that they have obtained consent that satisfies federal laws and regulations. This new information collection does not change that obligation but may require website operators, including lead generators and comparison shopping sites, to modify their sites to ensure that one-to-one consent is properly collected. The rule only applies to callers that are required to obtain prior express written consent from consumers under the TCPA. Some respondents may already be obtaining one-to-one consent from consumers and would not incur any implementation burdens. Other respondents may not need to obtain TCPA prior express written consent.

List of Subjects in 47 CFR Part 64

Communications common carriers, Telecommunications, Telephone.

Federal Communications Commission.
Marlene Dortch,
Secretary, Office of the Secretary.

Final Rules

For the reasons discussed in the preamble, the Federal Communications Commission amend 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227(b), 228, 251(a), 251(e), 254(k), 255, 262, 276, 403(b)(2)(B), (c), 616, 620, 716, 1401-1473, unless otherwise noted; Pub. L. 115-141, Div. P, sec. 503, 132 Stat. 348, 1091.

Subpart L—Restrictions on Telemarketing, Telephone Solicitation, and Facsimile Advertising

2. Amend § 64.1200 by revising paragraph (f)(9) to read as follows:

§ 64.1200 Delivery Restrictions.

(f) * * *

(9) The term prior express written consent means an agreement, in writing, that bears the signature of the person called or texted that clearly and conspicuously authorizes no more than one identified seller to deliver or cause to be delivered to the person called or texted advertisements or telemarketing messages using an automatic telephone dialing system or an artificial or prerecorded voice. Calls and texts must be logically and topically associated with the interaction that prompted the consent and the agreement must identify the telephone number to which the signatory authorizes such advertisements or telemarketing messages to be delivered.

(i) The written agreement shall include a clear and conspicuous disclosure informing the person signing that:

(A) By executing the agreement, such person authorizes the seller to deliver or cause to be delivered to the signatory telemarketing calls or texts using an automatic telephone dialing system or an artificial or prerecorded voice; and

(B) The person is not required to sign the agreement (directly or indirectly), or agree to enter into such an agreement as a condition of purchasing any property, goods, or services. The term “signature” shall include an electronic or digital form of signature, to the extent that such form of signature is recognized as a valid signature under applicable federal law or state contract law.

(ii) [Reserved]

* * * * *

[FR Doc. 2024-24908 Filed 11-5-24; 8:45 am]

BILLING CODE 6712-01-P